DEPARTMENT OF THE INTERIOR

Bureau of Indian Affairs

Renewal of Agency Information Collection for Grazing Permits

AGENCY: Bureau of Indian Affairs, Interior.

ACTION: Notice of Request for Comments.

SUMMARY: The Bureau of Indian Affairs (BIA) is seeking comments on renewal of Office of Management and Budget (OMB) approval, pursuant to the Paperwork Reduction Act, for the collection of information titled “Grazing Permits, 25 CFR 166.” The information collection is currently authorized by OMB Control Number 1076-0157, which expires April 30, 2010. The information collection requires anyone seeking to obtain, modify, or assign a grazing permit for grazing on Indian trust or restricted land to submit certain information for review by the BIA.

DATES: Interested persons are invited to submit comments on or before April 26, 2010.

ADDRESSES: You may submit comments on the information collection to David Edington, Office of Trust Services, Bureau of Indian Affairs, Department of the Interior, 1849 C Street, NW., Mail Stop 4655, Washington, DC 20240, facsimile: (202) 219-0006, or e-mail David.Edington@bia.gov.

FOR FURTHER INFORMATION CONTACT: You may request further information or obtain copies of the information collection request submission from David Edington, telephone: (202) 513-0886.

SUPPLEMENTARY INFORMATION:

I. Abstract

The BIA is seeking renewal of the approval for the information collection conducted under 25 CFR part 166, related to grazing on trust or restricted land. Approval for this collection expires April 30, 2010. This information collection allows BIA to receive the information necessary to determine whether an applicant to obtain, modify, or assign a grazing permit on trust or restricted lands is eligible and complies with all applicable grazing requirements. Some of this information is collected on forms that may be revised as part of this renewal process. No third party notification or public disclosure burden is associated with this collection. There is no change to the approved burden hours for this information collection.

II. Request for Comments

The BIA requests that you send your comments on this collection to the locations listed in the ADDRESSES section. Your comments should address: (a) The necessity of the information collection for the proper performance of the agencies, including whether the information will have practical utility; (b) the accuracy of the agencies' estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. Approval for this collection expires April 30, 2010.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0157.

Title: Grazing Permits, 25 CFR 166.

Brief Description of Collection: Submission of this information allows individuals or organizations to obtain a grazing permit on trust or restricted land and provide notice with regard to land that is the subject of a grazing permit. Some of this information is collected on forms, including Form 5-5514 Bid for Grazing, 5-5524 Application for Allocation of Grazing Privileges, 5-5515 Grazing Permit, 5-5519 Grazing Permit, 5-5523 Application for On/Off Permit, 5-5521 Application for Assignment of Permit, and 5-5523 Cash Penal Bond for Grazing Permit. Response is required to obtain or retain a benefit.

Type of Review: Revision of a currently approved collection.

Respondents: Tribes, tribal organizations, individual Indians, and non-Indian individuals and businesses.

Number of Respondents: 1,000.

Total Number of Responses: 2,570.

Estimated Time per Response: 20 minutes.

Estimated Total Annual Burden: 856 hours.

Total Annual Cost to Respondents: $175,000.

Dated: February 17, 2010.
Alvin Foster,
Chief Information Officer—Indian Affairs.

[FR Doc. 2010-3815 Filed 2-24-10; 8:45 am]

BILLING CODE 4310-4J-P